ENVIRONMENTAL PROTECTION AGENCY

[FRL-7870-4]

Notice of Open Meeting of the Environmental Financial Advisory Board

AGENCY: Environmental Protection Agency (EPA).

ACTION: Notice.

SUMMARY: The United States Environmental Protection Agency's (EPA) Environmental Financial Advisory Board (EFAB) will hold an open meeting. EFAB is an EPA advisory committee chartered under the Federal Advisory Committee Act (FACA) to provide advice and recommendations to EPA on creative approaches to funding environmental programs, projects, and activities.

EFAB is chartered with providing analysis and advice to the EPA Administrator and program offices on environmental finance. The purpose of this meeting is to hear from informed speakers on environmental finance issues, proposed legislation and Agency priorities and to discuss progress with work products under EFAB's current strategic action agenda. Environmental financing topics expected to be discussed include: Joint Operations of the State Revolving Fund Programs, Innovations in Watershed Financing, Affordability of Water and Wastewater, Innovative Financing Tools, Preventing Future Non-Funded Abandoned Sites (Financial Assurance), and Useful Life Financing of Environmental Facilities.

The meeting is open to the public; however, seating is limited. All members of the public who wish to attend the meeting must register in advance, no later than Tuesday, March 8, 2005.

DATES: EFAB meeting is scheduled for Tuesday, March 15, 2005 from 1 p.m.-5 p.m. and Wednesday, March 16, 2005 from 8:45 a.m.-5 p.m.

ADDRESSES: Radisson Barcelo Hotel, Phillips Ballroom, 2121 P St., NW., Washington, DC 20037.

Registration and Information Contact: To register for the meeting or get further information, please contact Alecia Crichlow, U.S. EPA, (202) 564-5188 or crichlow.alecia@epa.gov.

Dated: January 25, 2005.
Joseph Dillon,
Director, Office of Enterprise Technology & Innovation.

[FR Doc. 05-2455 Filed 2-8-05; 8:45 am]

BILLING CODE 6560-50-P